DEPARTMENT OF AGRICULTURE

Cooperative State Research, Education, and Extension Service

Notice of Intent To Request an Extension of a Currently Approved Information Collection

AGENCY: Cooperative State Research, Education, and Extension Service, USDA.

ACTION: Notice and request for comments.

SUMMARY: In accordance with the Paperwork Reduction Act of 1995 and Office of Management and Budget (OMB) regulations (5 CFR part 1320) which implement the Paperwork Reduction Act of 1995 (44 U.S.C. Chapter 35), this notice announces the Cooperative State Research, Education, and Extension Service's (CSREES) intention to request an extension for a currently approved information collection (OMB No. 0524-0026) for Form CSREES-665, “Assurance of Compliance with the Department of Agriculture Regulations Assuring Civil Rights Compliance,” and Form CSREES-666, “Organizational Information.”

DATES: Submit comments on or before June 12, 2006.

ADDRESSES: Written comments concerning this notice and requests for copies of the information collection may be submitted by any of the following methods to Joanna Moore, Policy Specialist, Office of Extramural Programs, Policy, Oversight, and Funds Management Branch; Mail: CSREES/USDA; Mail Stop 2299; 1400 Independence Avenue, SW.; Washington, DC 20250-2299; Hand Delivery/Courier: 800 9th Street, SW., Waterfront Centre, Room 2249,Washington, DC 20024; Fax: 202-401-7752; or e-mail: jmoore@csrees.usda.gov.

FOR FURTHER INFORMATION CONTACT: Ellen Danus, Branch Chief, Policy, Oversight, and Funds Management Branch; Office of Extramural Programs; CSREES/USDA; (202) 401-4325; E-mail: edanus@csrees.usda.gov.

SUPPLEMENTARY INFORMATION: Title: Assurance of Compliance with the Department of Agriculture Regulations Assuring Civil Rights Compliance and Organizational Information.

OMB Number: 0524-0026.

Expiration Date of Current Approval: August 31, 2006.

Type of Request: Intent to extend a currently approved information collection for three years.

Abstract: CSREES has primary responsibility for providing linkages between the Federal and State components of a broad-based, national agricultural research, extension, and education system. Focused on national issues, its purpose is to represent the Secretary of Agriculture and carry out the intent of Congress by administering formula and grant funds appropriated for agricultural research, extension, and education. Before awards can be made, certain information is required from applicants to assure compliance with the applicable civil rights laws and to effectively assess the potential recipient's capacity to manage Federal funds.

Need for the Information: Form CSREES-665 “Assurance of Compliance with the Department of Agriculture Regulations Assuring Civil Rights Compliance”: By signing this form, the organization certifies that it complies with the Civil Rights Act of 1964, as amended. The applicant agrees that it will offer its programs to all eligible persons without regard to race, color, national origin, gender, disability, age, political beliefs, religion, marital status, or familial status and that people will not be excluded from participation in, be denied the benefits of, or be otherwise subjected to discrimination under any program or activity for which the applicant receives the Federal financial assistance from the Department of Agriculture. This information is submitted to CSREES on a one-time basis.

Form CSREES-666 “Organizational Information”: Enables CSREES to determine that applicants recommended for awards will be responsible recipients of Federal funds. The information pertains to organizational management and financial matters of the potential grantee. This form and the documents which the applicant attaches to it provide CSREES with information such as the legal name of grantee, certification that the organization has the legal authority to accept Federal funding, identification and signatures of the key officials of the organization, the organization's practices in regard to compensation rates and benefits of employees, insurance for equipment, subcontracting with other organizations, etc., as well as the financial condition of the organization. All of this information is considered by CSREES prior to award to determine the grantee is both managerially and fiscally responsible. This information is submitted to CSREES on a one-time basis. If sufficient changes occur within the organization, the grantee submits revised information.

With regards to compliance with the Government Paperwork Elimination Act (44 U.S.C. 3504 note), CSREES is proposing to postpone making an electronic option available for this information collection until the Federal government-wide electronic process is developed for collecting organizational information and statutory certifications from new grantees. Under the Federal Financial Assistance Management Improvement Act of 1999 (Pub.L. No. 106-107), Federal agencies and OMB have been working together to streamline and simplify the award and administration of Federal grants. As a result of these activities, Federal agencies and OMB are proposing various regulations, policies, and business processes that will decrease the overall information collection burden to grant recipients by having a central location where this information is collected for use by all Federal grantmaking agencies.

Estimate of the Burden: CSREES estimates the number of responses for the Form CSREES-665 will be 150 with an estimated response time of .5 hour per form, representing a total annual burden of 75 hours for this form. CSREES estimates the number of responses for the Form CSREES-666 will be 150 with an estimated response time of 6.3 hours per form, representing a total annual burden of 945 hours for this form. These estimates are based on a survey of grantees who had recently been approved for grant awards. They were asked to give an estimate of time it took them to complete each form. This estimate was to include such things as: (1) Reviewing the instructions; (2) searching existing data sources; (3) gathering and maintaining the data needed; and (4) actual completion of the forms. The average time it took each respondent was calculated from their responses.

Comments: Comments are invited on: (a) Whether the proposed collection of information is necessary for the proper performance of the functions of the Agency, including whether the information will have a practical utility; (b) the accuracy of the Agency's estimate of the burden of the proposed collection of information, including the validity of the methodology and assumptions used; (c) ways to enhance the quality, utility, and clarity of the information to be collected; and (d) ways to minimize the burden of the information collection on those who are to respond, including through the use of appropriate automated, electronic, mechanical, or other technological collection techniques or other forms of information technology.

Done at Washington, DC, this 4th day of March 2006.
Joseph Jen,
Under Secretary, Research, Education, and Economics.

[FR Doc. E6-5227 Filed 4-10-06; 8:45 am]

BILLING CODE 3410-22-P